DEPARTMENT OF COMMERCE

Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-10 Patent Deposit Accounts System.” This action is being taken to update the Privacy Act notice and to include user profiles for electronic funds transfers (EFT). The system of records will also be renamed “COMMERCE/PAT-TM-10 Deposit Accounts and Electronic Funds Transfer Profiles.” We invite the public to comment on the amendments noted in this publication.

DATES: Written comments must be received no later than August 7, 2006. The amendments will become effective as proposed on August 7, 2006, unless the USPTO receives comments that would result in a contrary determination.

ADDRESSES: You may submit written comments by any of the following methods:

• E-mail: Tamara.McClure@uspto.gov.

• Fax: (571) 273-6500, marked to the attention of Tamara McClure.

• Mail: Tamara McClure, Office of Finance, United States Patent and Trademark Office, P.O. Box 1450, Alexandria, VA 22313-1450.

All comments received will be available for public inspection at the USPTO Public Search Facility, Madison East Building—1st Floor, 600 Dulany Street, Alexandria, VA 22314.

FOR FURTHER INFORMATION CONTACT: Director, Office of Finance, United States Patent and Trademark Office, P.O. Box 1450, Alexandria, VA 22313-1450, (571) 272-6400.

SUPPLEMENTARY INFORMATION: The United States Patent and Trademark Office (USPTO) is giving notice of an amendment to a system of records that is subject to the Privacy Act of 1974. This system of records maintains information on deposit accounts that may be used by customers to pay fees for processing and services related to patents, trademarks, and information products. The USPTO is revising this system of records to include user profiles for electronic funds transfers (EFT), which provide customers with another method for paying patent and trademark fees. The Privacy Act notice is also being updated with current address information for the system location and system manager. The categories of individuals covered by the system, categories of records in the system, routine uses of records maintained in the system, and other system descriptions are being updated to include information regarding EFT user profiles and to reflect current practice. The authority for maintenance of the system and rule references for the notification procedure and contesting record procedures are being updated to correspond to the current statutes and rules for those items as related to the USPTO.

Due to the addition of information concerning EFT user profiles, the name of the system of records in this Privacy Act notice is being changed to “COMMERCE/PAT-TM-10 Deposit Accounts and Electronic Funds Transfer Profiles.” The amended system of records notice is published in its entirety below.

COMMERCE/PAT-TM-10

System name:

Deposit Accounts and Electronic Funds Transfer Profiles.

Security classification:

Unclassified.

System location:

Office of Finance, Receipts Accounting Division, United States Patent and Trademark Office, 2051 Jamieson Avenue, Suite 300, Alexandria, VA 22314; Office of the Chief Information Officer, United States Patent and Trademark Office, Madison West Building, 600 Dulany Street, Alexandria, VA 22314.

Categories of individuals covered by the system:

Registered patent attorneys and agents and other members of the public who maintain deposit accounts or make electronic funds transfer (EFT) payments to pay the cost of products and services rendered by the United States Patent and Trademark Office (USPTO).

Categories of records in the system:

For deposit accounts: Name, address, telephone number, fax number, contact e-mail address, taxpayer ID number, Agency Location Code (ALC), deposit account number, type of account, authorized users list, access code, and financial transactions with the USPTO. For EFT: Bank account holder's name, address, bank name, bank routing number, bank account number and type of account, contact phone number, and contact e-mail address.

Authority for maintenance of the system:

35 U.S.C. 2 and 41 and 15 U.S.C. 1113.

Purpose(s):

The USPTO collects customer financial information for fee processing. Under 35 U.S.C. 41 and 15 U.S.C. 1113, as implemented in 37 CFR 1.16-1.28, 2.6-2.7, and 2.206-2.209, the USPTO charges fees for processing and other services related to patents, trademarks, and information products. This system of records contains the information necessary to allow customers to establish deposit accounts at the USPTO, maintain existing accounts, or charge the appropriate fee amount to the appropriate deposit account. This system of records also allows customers to establish and maintain a user profile in order to make fee payments from their bank accounts by EFT.

Routine uses of records maintained in the system, including categories of users and the purposes of such uses:

See Prefatory Statement of General Routine Uses Nos. 1-5, 9-10 and 13, as found at 46 FR 63501-63502 (December 31, 1981). The financial information is used to establish and maintain deposit accounts and EFT user profiles for USPTO customers and to validate and process fee sales. Account information may also be disclosed to financial institutions for verification and processing of transactions. For EFT payments, the contact phone number and e-mail address are used in order to communicate with the customer in case there are any problems with the EFT information or the EFT fee sale. After a sale is completed, the information is stored as a historical transaction along with the identifying mark of the sale item. This historical information is used to verify that a customer has paid the appropriate fees for their goods or services.

Disclosure to consumer reporting agencies:

Not applicable.

Policies and practices for storing, retrieving, accessing, retaining, and disposing of records in the system:

Storage:

Microfilm and magnetic storage media.

Retrievability:

Deposit account records may be retrieved by: Deposit account number, holder name, and access code. EFT records may be retrieved by: Bank routing number and bank account number. The files are searchable in a database available only to authorized staff.

Safeguards:

Buildings employ security guards. Records are maintained in areas accessible only to authorized personnel who are properly screened, cleared, and trained. Where information is retrievable by terminal, all appropriate system safeguards (hardware and software) are utilized. Financial information is collected using appropriate encryption technology and records are stored on a secure server. Access to electronic records is limited to key personnel and is restricted to the specific functions required by their duties. System operators and administrators are trained to keep financial information secure.

Retention and disposal:

Records retention and disposal is in accordance with the series record schedules.

System manager(s) and address:

Director, Office of Finance, United States Patent and Trademark Office, 2051 Jamieson Avenue, Suite 300, Alexandria, VA 22314.

Notification procedure:

Information may be obtained from the Privacy Officer, Office of General Law, United States Patent and Trademark Office, P.O. Box 1450, Alexandria, VA 22313-1450. Requesters should provide name, account information, and record sought, pursuant to the inquiry provisions appearing in 37 CFR Part 102 Subpart B.

Record access procedures:

Requests from individuals should be addressed to the same address as stated in the notification section above.

Contesting record procedures:

The rules for access, contesting contents, and appealing initial determinations by the individual concerned appear in 37 CFR Part 102 Subpart B. Requests from individuals should be addressed to the same address as stated in the notification section above.

Record source categories:

Subject individuals and those authorized by the individual to furnish information.

Exemptions claimed for the system:

None.

Dated: June 29, 2006.
Susan K. Brown,
Records Officer, USPTO, Office of the Chief Information Officer, Architecture, Engineering and Technical Services, Data Architecture and Services Division.

[FR Doc. E6-10526 Filed 7-5-06; 8:45 am]

BILLING CODE 3510-16-P